DEPARTMENT OF ENERGY

Federal Energy Regulatory Commission

[Docket No. QF04-50-000]

In Reply Refer To: Fountainview at College Road, Inc.

June 14, 2004.

Fountainview at College Road, Inc., Attention: John Vario, 2000 Fountainview Drive, Monsey, New York 10952.

CRM Energy Technologies, Attention: Robert Wilson, 80 Red Schoolhouse Rd., Chestnut Ridge, NY 10977.

Dear Mr. Vario and Mr. Wilson:

1. The Commission finds that the self-certification as a qualifying facility (QF) submitted by the Fountainview at College Rd, Inc. (Fountainview) may no longer be relied upon, 18 CFR 292.207(d)(1)(i) (2003). Fountainview's filing with the Commission was incomplete, and Fountainview has not responded to repeated requests to provide the additional information needed to complete the filing.

2. On December 4, 2003, Fountainview submitted a notice of self-certification, containing a Form No. 556. According to Fountainview's filing, Fountainview owns a 500 kilowatt cogeneration facility located in Monsey, New York.

3. The owner or operator of a facility (or itsrepresentative) self-certifying must file with the Commission, and concurrently serve on each electric utility with which it expects to interconnect, transmit or sell electric energy to, or purchase supplementary, standby, back-up and maintenance power from, and the state regulatory authority of each state where the facility and each affected utility is located “a notice of self-certification which contains a completed Form 556.” See 18 CFR 292.207(a) (2003) (emphasis added). As described below, Fountainview's notice of self-certification did not contain the required, completed Form No. 556.

4. The Form No. 556 submitted by CRM for Fountainview did not contain the following required information: a complete description of the ownership of the facility including a description of any ownership interest held by an electric utility or electric utility holding company or by a person owned by either; an address and telephone number for communications regarding the filing; the electric utilities that are contemplated to transact with the qualifying facility (if known) and the services those electric utilities are expected to provide; utilities interconnecting with the facility and/or providing wheeling service; utilities purchasing the useful electric power output and utilities providing supplementary power, backup power, maintenance power, and/or interruptible power service; a description of the principal components of the facility; net and gross capacity; a discussion of the particular characteristics of the facility that might bear on the qualifying status; a mass and heat balance diagram; mechanical output; the number of hours of operation per year; the identity of the thermal host; and how the heat will be used.

5. Staff called Fountainview on December 16, 2003 and spoke to Mr. John Vario in an attempt to obtain information omitted from the filing. Mr Vario directed staff to call CRM Energy Technologies (CRM) because CRM was responsible for building the proposed facility for Fountainview and because CRM had submitted the notice of self-certification on Fountainview's behalf. Staff then called Mr. Richard Bailey, CRM's president, and informed him that the filing was deficient. He said that CRM would address the deficiencies. When nothing was filed with the Commission, staff, between January and April of 2004, called both Fountainview and CRM on several occasions and spoke to Debbie Reinfried, Roland Biehle, Robert Wilson (CRM's General Manager), and John Vario. On March 3, 2004, staff, pursuant to delegated authority, issued a letter to CRM, asking CRM to answer all of the questions in Form No. 556, with a response due on or before March 18, 2004. See 18 CFR 375.307(l)(3) ( 2003). The letter was both mailed and faxed to CRM and Fountainview. Staff subsequently called CRM and verified that it had received the fax. After the response date had passed, staff called Robert Wilson two times, but to date neither a response to the letter nor an explanation for the delay has been filed.

6. If a qualifying facility fails to conform to any material facts or representations presented by the applicant in its submittal to the Commission, the notice of self-certification of qualifying status of the facility “may no longer be relied upon.” See 18 CFR 292.207(d)(1)(i) (2003). Because Fountainview has failed to include the required, completed Form No. 556 with its filing, the Commission finds that Fountainview may not rely on the notice of self-certification it submitted in this docket.

7. If Fountainview desires QF status, Fountainview may file either a new notice of self-certification pursuant to the requirements of 18 CFR 292.207(a)(1) (2003), or an pplication for Commission certification pursuant to the requirements of 18 CFR292.207(b) (2003). See 18 CFR 292.207(d)(1)(i) (2003). We caution that Fountainview's notice of self-certification, or alternatively its application for Commission certification, must contain all of the information required by the Commission's regulations, including the information identified in Form No. 556.

8. A copy of this letter will be published in the Federal Register.

By direction of the Commission.
Magalie R. Salas,
Secretary.

cc: Orange and Rockland Utilities, Inc., One Blue Hill Plaza, Pearl River, NY 10965.

New York Public Service Commission, Empire State Plaza, Agency Building 3, Albany, NY 12223-1350.

[FR Doc. 04-13999 Filed 6-21-04; 8:45 am]

BILLING CODE 6717-01-P